DEPARTMENT OF ENERGY

Federal Energy Regulatory Commission

[Docket No. CP08-414-000]

Southern Natural Gas Company; Notice of Request Under Blanket Authorization

June 5, 2008.

Take notice that on June 2, 2008, Southern Natural Gas Company (“Southern”), Post Office Box 2563, Birmingham, Alabama 35202-2563, filed in Docket No. CP08-414-000, a prior notice request pursuant to sections 157.205, and 157.210 of the Federal Energy Regulatory Commission's regulations under the Natural Gas Act and its blanket authority granted in Docket No. CP82-406-000 on September 1, 1982, for authorization to replace two existing compressor units at its Gwinville Compressor Station (“Gwinville”) with one larger unit, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Gwinville is a critical station located at the intersection of Southern's Franklinton-Gwinville Pipelines and Southern's South Main Pipelines. This point in Southern's system is where the gas transported from the Gulf of Mexico interconnects with Southern's south main system. The two existing compressor units, #10 and #12, which have a horsepower of 1,080 and 4,390, respectively, would be replaced with a new Solar Taurus 70 unit to be rated at ISO 10,310 hp. This new compressor unit is proposed to be installed in a new compressor building, which will be immediately adjacent to Unit #12.

Any questions regarding the application should be directed to Patrick B. Pope, Vice President and General Counsel, Southern Natural Gas Company, Post Office Box 2563, Birmingham, Alabama 35202-2563, at (205) 325-7126 or Patricia S. Francis, Senior Counsel, Southern Natural Gas Company, Post Office Box 2563, Birmingham, Alabama 35202-2563, at (205) 325-7696.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-13255 Filed 6-12-08; 8:45 am]

BILLING CODE 6717-01-P